DEPARTMENT OF COMMERCE

International Trade Administration

[C-357-813]

Notice of Postponement of Preliminary Countervailing Duty Determination: Honey from Argentina.

AGENCY: Import Administration, International Trade Administration, Department of Commerce.

SUMMARY: The Department of Commerce is extending the time limit for the preliminary determination in the countervailing duty investigation of honey from Argentina from January 2, 2001 until no later than March 5, 2001. This extension is made pursuant to section 703(c)(1)(A) of the Tariff Act of 1930, as amended by the Uruguay Round Agreements Act.

EFFECTIVE DATE: December 15, 2000.

FOR FURTHER INFORMATION CONTACT: Dana Mermelstein or Doug Campau, Office of AD/CVD Enforcement VII, Import Administration, International Trade Administration, U.S. Department of Commerce, 14th Street and Constitution Avenue, NW., Washington, DC 20230; telephone (202) 482-1391 or (202) 482-1395, respectively.

Postponement of Preliminary Determination: On October 26, 2000, the Department initiated the countervailing duty investigation of honey from Argentina. See Notice of Initiation of Countervailing Duty Investigation: Honey From Argentina, 65 FR 65835 (November 2, 2000). On December 5, 2000, petitioners made a timely request pursuant to 19 CFR 351.205(e) for a postponement of the preliminary determination in accordance with section 703(c)(1) of the Tariff Act of 1930, as amended (the Act). Petitioners requested a postponement because of the complicated nature of the case, to allow petitioners adequate time to analyze submitted responses, and to allow time for the Department to determine the extent to which particular subsidies are being used.

For reasons identified by the petitioners, we see no compelling reason not to postpone the preliminary determination. See Memorandum from Deputy Assistant Secretary for AD/CVD Enforcement Joseph A. Spetrini to Assistant Secretary for Import Administration Troy H. Cribb, dated December 8, 2000 (on file in the public file of the Central Records Unit, Room B-099 of the Department of Commerce). Therefore, we are postponing the preliminary determination under section 703(c)(1)(A) of the Act. We will make our preliminary determination in this investigation no later than March 5, 2001.

This notice of postponement is published pursuant to section 703(c)(2) of the Act.

Dated: December 8, 2000.
Joseph A. Spetrini,
Deputy Assistant Secretary, AD/CVD Enforcement Group III.

[FR Doc. 00-31941 Filed 12-14-00; 8:45 am]

BILLING CODE 3510-DS-P